DEPARTMENT OF AGRICULTURE

Agricultural Research Service

Notice of Intent To Seek Approval To Collect Information

AGENCY: Agricultural Research Service, USDA.

ACTION: Notice and request for comments.

SUMMARY: In accordance with the Paperwork Reduction Act of 1995 and Office of Management and Budget regulations, this notice announces the request of the Agricultural Research Service, permission to collect information from North Dakota landowners in nine counties, to gain their perspective on their grasslands in the Northern Great Plains. A mail survey composed of 42 questions will be mailed to landowners. Topics for which information will be collected from respondents include farm/ranch characteristics, land management style, land use practices, opinions about new grass species, opinions about Kentucky bluegrass and what producers are doing about it, Kentucky bluegrass management, and personal characteristics.

DATES: Comments on this notice must be received by October 23, 2018 to be assured of consideration.

ADDRESSES: Address all comments concerning this notice to David Toledo, Research Rangeland Management Specialist, USDA, ARS, 1701 10th Avenue SW, P.O. Box 459, Mandan North, Dakota 58554. Submit electronic comments to: david.toledo@ars.usda.gov.

FOR FURTHER INFORMATION CONTACT: David Toledo, Research Rangeland Management Specialist. Phone: 701-667-3063 or Fax: 701-667-3054.

SUPPLEMENTARY INFORMATION:

Title: Your Perspective on Your Grasslands in the Northern Great Plains.

OMB Number: 0518-XXXX.

Expiration Date:

Type of Request: To administer survey for data collection.

Abstract: A survey questionnaire will be mailed via U.S. Postal Service. The Survey consists of 42 questions about farm/ranch characteristics, land management style, land use practices, opinions about new grass species, opinions about Kentucky bluegrass and what producers are doing about it, Kentucky bluegrass management, and personal characteristics.

Estimate of Burden: Public reporting burden for this collection of information is estimated to average 15 minutes per response.

Respondents: A subset of landowners in each of the following North Dakota counties: Barnes County, Billings County, Burleigh County, Cass County, Golden Valley County, Kidder County, Morton County, Stark County, Stutsman County. Using 2012 Agricultural Census data it was determined that if landowners with farms greater than 1,000 acres are included as part of the sample, the population of potential respondents will be 2,191.

Estimated Number of Respondents: 718 with a margin of error 3 percent.

Estimated Total Annual Burden on Respondents: 179.5 hours.

Comments are invited on (a) whether the proposed collection of information is necessary for the proper performance of the functions of the Agency, including whether the information will have practical utility; (b) the accuracy of the Agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address listed in the preamble. All responses to this notice will be summarized and included in the request for Office of Management and Budget approval. All comments will become a matter of public record.

Dated: August 15, 2018.
Simon Y. Liu,
Associate Administrator, Agricultural Research Service.

[FR Doc. 2018-18317 Filed 8-23-18; 8:45 am]

BILLING CODE 3410-03-P